DEPARTMENT OF DEFENSE

Notice of Intent (NOI) To Prepare an Environmental Impact Statement (EIS) for Proposed Establishment and Expansion of Military Airspace in Support of the Oregon Air National Guard (ORANG), Portland International Airport, Portland, and Kingsley Field, Klamath Falls, OR

AGENCY: Department of the Air Force; DOD.

ACTION: Notice of Intent.

SUMMARY: Pursuant to the National Environmental Policy Act (NEPA) of 1969, as amended (42 U.S.C. 4321, et seq.), the Council on Environmental Quality (CEQ) Regulations for Implementing the Procedural Provisions of NEPA (40 CFR parts 1500-1508), and Air Force policy and procedures (32 CFR part 989), the Air Force is issuing this notice to advise the public of its intent to prepare an Environmental Impact Statement (EIS) for the proposed establishment and expansion of Special Use Airspace over portions of Oregon and a small area over northwestern Nevada and southwestern Washington. The proposal would provide adequately sized and configured airspace within close proximity to ORANG flying units to support advanced 21st-century air-to-air tactical fighter technologies and current and evolving training mission requirements and ensure efficient and realistic mission-oriented training. The training would take place Monday through Friday and during one weekend per month.

In support of the ORANG's 142d and 173d Fighter Wings, the Air Force and the National Guard Bureau (NGB) are proposing (Alternative A) to expand, modify, and establish air-to-air training airspace areas in four locations around the state: (1) Proposed expansion of Warning Area 570 (W-570) to the west over the Pacific Ocean; (2) proposed establishment of the Eel Military Operations Area (MOA) directly underneath the existing Eel Air Traffic Control Assigned Area which is aligned north/south along the Oregon coast from approximately Astoria to Lincoln City and adjacent to W-570; (3) proposed establishment of the Redhawk MOA in north central Oregon roughly bounded by Highway 97/197 on the west, the towns of Wasco and Lexington on the north, US Highway 395 on the east, and US Highway 26 on the south; and (4) proposed expansion of the existing Juniper/Hart MOA Complex to the east approximately 20 miles which would extend from approximately Burns to Frenchglen in Oregon and to Big Mountain in northwestern Nevada. Four alternatives and the No-Action Alternative will be analyzed. Alternative B includes the majority of airspace changes proposed for Alternative A; however, the Eel MOA would not be established. Alternative C includes the airspace changes proposed under Alternative A but the Redhawk MOA would not be established. Alternative D includes the airspace changes under Alternative A but would not include the eastward expansion of Juniper/Hart MOA Complex. Reasonable alternatives, which satisfy the underlying purpose and need for the proposed action, that are identified during the scoping process will also be assessed.

Information: NGB will conduct public scoping meetings to solicit input concerning the proposal. The scoping process assists in determining the scope of issues to be addressed and to help identify significant environmental issues to be analyzed in depth in the EIS. Comments will be accepted at any time during the environmental impact analysis process; however, to ensure that NGB has sufficient time to consider public feedback in the preparation of the Draft EIS, scoping comments should be submitted to the address below no later than 60 days from the date of this notice.

Scoping meetings will be held in the following Oregon communities: Tillamook (June 17), Astoria (June 18), Condon (June 19), Burns (June 20), and Prineville (June 21). Specific meeting times and locations will be provided in notices that will appear in The Oregonian and regional media outlets. Additional information will be made available at www.142fw.ang.af.mil and www.173fw.ang.af.mil.

ADDRESSES: Robert Dogan, National Guard Bureau/A7AM, 3501 Fetchet Avenue, Joint Base Andrews, MD 20762-5157. Email: ang.env.comments@ang.af.mil.

Henry Williams Jr.,
Acting Air Force Federal Register Liaison Officer.

[FR Doc. 2013-11800 Filed 5-16-13; 8:45 am]

BILLING CODE 5001-10-P